DEPARTMENT OF COMMERCE

National Oceanic and Atmospheric Administration

50 CFR Part 648

RIN 0648-XF074

Fisheries of the Northeastern United States; Northeast Multispecies Fishery; Possession and Trip Limit Modifications for the Common Pool Fishery

AGENCY: National Marine Fisheries Service (NMFS), National Oceanic and Atmospheric Administration (NOAA), Commerce.

ACTION: Temporary rule; inseason adjustment.

SUMMARY: This action increases the possession and trip limits for Southern New England/Mid-Atlantic yellowtail flounder and reduces the possession and trip limits for Georges Bank cod in place for Northeast multispecies common pool vessels for the remainder of the 2016 fishing year. The Regional Administrator is authorized to adjust possession and trip limits for common pool vessels to facilitate harvesting, or prevent exceeding, the pertinent common pool quotas during the fishing year. Increasing the possession and trip limits on Southern New England/Mid-Atlantic yellowtail flounder is intended to provide additional fishing opportunities and help allow the common pool fishery to catch its allowable quota for the stock, while reducing the possession and trip limits for Georges Bank cod is necessary to prevent overharvest of the common pool quota for that stock.

DATES: The action increasing the possession and trip limits for Southern New England/Mid-Atlantic yellowtail flounder is effective December 22, 2016, through April 30, 2017. The action decreasing the possession and trip limits for Georges Bank cod is effective January 1, 2017, through April 30, 2017.

FOR FURTHER INFORMATION CONTACT: Kyle Molton, Fishery Management Specialist, 978-281-9236.

SUPPLEMENTARY INFORMATION: The regulations at 50 CFR 648.86(o) authorize the Regional Administrator to adjust the possession and trip limits for common pool vessels in order to prevent the overharvest and facilitate utilization of the common pool quotas. As of December 1, 2016, the common pool had caught less than 5 percent of its sub-annual catch limit (ACL) of Southern New England/Mid-Atlantic (SNE/MA) yellowtail flounder. We project that a moderate increase in the possession and trip limit for SNE/MA yellowtail flounder will result in greater fishing opportunities and little risk of exceeding the common pool sub-ACL of that stock in the current fishing year. To allow the common pool fishery to catch more of its quota for this stock, effective December 22, 2016, the possession and trip limit of SNE/MA yellowtail flounder for all common pool vessels of 250 lb (113.4 kg) per day-at-sea (DAS), and 500 lb (226.8 kg) per trip is increased, to 500 lb (226.8 kg) per DAS, and 1,000 lb (453.6 kg) per trip. It is unlawful for any common pool vessel to exceed the new possession and trip limits.

On November 15, 2016, we reduced possession and trip limits for Georges Bank (GB) cod to prevent an overage of the common pool's quota for the stock. These reduced possession and trip limits were set to expire on December 31, 2016, and return to the initial limits set by Framework Adjustment 55 to the Northeast Multispecies Fishery Management Plan (FMP). We project that if the current possession and trip limits were to expire there will likely be a significant overage of the common pool quota for this stock before the end of the fishing year. As of December 1, 2016, the common pool had caught approximately 76 percent of its sub-ACL of GB cod. To prevent the common pool fishery from exceeding its quota for this stock during the remainder of the fishing year, effective January 1, 2017, the possession and trip limits for GB cod will remain at the current limits (see Table 1) instead of returning to the initial limits set by Framework Adjustment 55 to the Northeast Multispecies FMP. We are also setting a new 25-lb (11.3-kg) per trip GB cod trip limit on common pool vessels fishing with a small vessel category permit. As a result, effective January 1, 2017, it is unlawful for a common pool vessel to exceed the possession and trip limits listed in Table 1.

Table 1—Current and Updated Common Pool Possession and Trip Limits for GB Cod
Permit | Current limits (as of November 15, 2016) | Updated limits (effective January 1, 2017)
A DAS* (outside of the Eastern U.S./Canada Area) | 25 lb (11.3 kg) per DAS up to 50 lb (22.7 kg) per trip | 25 lb (11.3 kg) per DAS up to 50 lb (22.7 kg) per trip (unchanged).
A DAS (Eastern U.S./Canada Area) | 25 lb (11.3 kg) per DAS up to 50 lb (22.7 kg) per trip | 25 lb (11.3 kg) per DAS up to 50 lb (22.7 kg) per trip (unchanged).
A DAS (Special Access Programs) | 50 lb (22.7 kg) per trip | 50 lb (22.7 kg) per trip (unchanged).
Handgear A | 25 lb (11.3 kg) per trip | 25 lb (11.3 kg) per trip (unchanged).
Handgear B | 25 lb (11.3 kg) per trip | 25 lb (11.3 kg) per trip (unchanged).
Regular B DAS Program | 25 lb (11.3 kg) per DAS up to 50 lb (22.7 kg) per trip | 25 lb (11.3 kg) per DAS up to 50 lb (22.7 kg) per trip (unchanged).
Small Vessel Category (≤30 ft) | 300 lb (136.1 kg) of cod, haddock, and yellowtail flounder combined | 300 lb (136.1 kg) of cod, haddock, and yellowtail flounder combined.
| Maximum of 25 lb (11.3 kg) of GOM cod and 200 lb (90.7 kg) of GOM haddock within the 300-lb (136.1-kg) combined trip limit | Maximum of 25 lb (11.3 kg) of cod and 200 lb (90.7 kg) of GOM haddock within the 300-lb (136.1-kg) combined trip limit.
* Day-at-sea (DAS).

Weekly quota monitoring reports for the common pool fishery can be found on our Web site at: http://www.greateratlantic.fisheries.noaa.gov/ro/fso/MultiMonReports.htm. We will continue to monitor common pool catch through vessel trip reports, dealer-reported landings, vessel monitoring system catch reports and other available information and, if necessary, we will make additional adjustments to common pool management measures.

Classification

This action is required by 50 CFR part 648 and is exempt from review under Executive Order 12866.

The Assistant Administrator for Fisheries, NOAA, finds good cause pursuant to 5 U.S.C. 553(b)(B) and 5 U.S.C. 553(d)(3) to waive prior notice and the opportunity for public comment and the 30-day delayed effectiveness period because it would be impracticable and contrary to the public interest.

The regulations at § 648.86(o) authorize the Regional Administrator to adjust the Northeast multispecies possession and trip limits for common pool vessels to prevent the overharvest and facilitate utilization of common pool sub-ACLs. The catch data used to justify increasing the SNE/MA yellowtail flounder possession and trip limits and maintaining current possession and trip limits for GB cod only recently became available. The possession and trip limit increase implemented through this action allows for increased harvest of SNE/MA yellowtail flounder, to help ensure that the fishery may achieve the optimum yield (OY) for this stock. As a result, the time necessary to provide for prior notice and comment, and a 30-day delay in effectiveness, would prevent us from increasing the possession and trip limit for SNE/MA yellowtail flounder in a timely manner, which could prevent the fishery from achieving the OY. Further, the same delay would prevent us from implementing measures to prevent overutilization of the GB cod sub-ACL, leading to further negative impacts on the fishery. Either outcome would undermine management objectives of the Northeast Multispecies FMP and cause unnecessary negative economic impacts to the common pool fishery. There is additional good cause to waive the delayed effective period because this action in part relieves restrictions on fishing vessels by increasing a trip limit on SNE/MA yellowtail flounder and also limits regulatory confusion by maintaining status quo restrictions to more effectively prevent overharvest of the GB cod sub-ACL.

Authority: 16 U.S.C. 1801 et seq.

Dated: December 22, 2016.
Alan D. Risenhoover,
Director, Office of Sustainable Fisheries, National Marine Fisheries Service.

[FR Doc. 2016-31403 Filed 12-22-16; 4:15 pm]

BILLING CODE 3510-22-P